DEPARTMENT OF HEALTH AND HUMAN SERVICES

National Institutes of Health

Center for Scientific Review; Amended Notice of Meeting

Notice is hereby given of a change in the meeting of the Intercellular Interactions Study Section, February 11, 2010, 8 a.m. to February 12, 2010, 5 p.m., Sheraton Fisherman's Wharf Hotel, 2500 Mason Street, San Francisco, CA 94133 which was published in the Federal Register on January 11, 2010, 75 FR 1397-1399.

The meeting will be one day only February 11, 2010. The meeting time and location remain the same. The meeting is closed to the public.

Dated: January 11, 2009.
Jennifer Spaeth,
Director, Office of Federal Advisory Committee Policy.

[FR Doc. 2010-860 Filed 1-15-10; 8:45 am]

BILLING CODE 4140-01-P